FEDERAL COMMUNICATIONS COMMISSION

47 CFR Part 73

[DA 06-613; MB Docket No. 04-202, RM-10985; MB Docket No. 04-271, RM-11013; MB Docket No. 04-272, RM-11014; MB Docket No. 04-273, RM-11015; and MB Docket No. 04-431, RM-11115]

Radio Broadcasting Services; Hermitage, AR; Richland Springs, TX; Tomahawk, WI; Wasco, CA; and Waynoka, OK

AGENCY: Federal Communications Commission.

ACTION: Final rule.

SUMMARY: This document allots five channels to the communities of Hermitage, Arkansas; Richland Springs, Texas; Tomahawk, Wisconsin; Wasco, California and Waynoka, Oklahoma. See SUPPLEMENTARY INFORMATION, infra.

DATES: Effective May 1, 2006. The window period for filing applications for these channels will not be opened at this time. Instead, the issue of opening filing windows for these allotments for auction will be addressed by the Commission in a subsequent order.

FOR FURTHER INFORMATION CONTACT: Sharon P. McDonald, Media Bureau, (202) 418-2180.

SUPPLEMENTARY INFORMATION: This is a synopsis of the Commission's Report and Order, MB Docket Nos. 04-202, 04-271, 04-272, 04-273 and 04-431, adopted March 15, 2006, and released March 17, 2006. The full text of this Commission decision is available for inspection and copying during normal business hours in the FCC Information Center, Portals II, 445 12th Street, SW., Room CY-A257, Washington, DC 20554. The complete text of this decision also may be purchased from the Commission's duplicating contractor, Best Copy and Printing, Inc., 445 12th Street, SW., Room CY-B402, Washington, DC 20554, (800) 378-3160, or via the company's Web site, http://www.bcpiweb.com. The Commission will send a copy of this Report and Order in a report to be sent to Congress and the Government Accountability Office pursuant to the Congressional Review Act, see 5 U.S.C. 801(a)(1)(A).

The Audio Division, at the request of Results Broadcasting of Rhinelander, Inc., allots Channel 265C3 at Tomahawk, Wisconsin, as the community's second local commercial FM transmission service. See 69 FR 34113, June 18, 2004. Channel 265C3 can be allotted to Tomahawk in compliance with the Commission's minimum distance with a site restriction of 8.5 kilometers (5.3 miles) west-northwest to avoid a short-spacing to the licensed site of Station WOBE(FM), Channel 264C1, Crystal Falls, Michigan. Since Tomahawk is located within 320 kilometers (200 miles) of the U.S.-Canadian border, concurrence of the Canadian government has been obtained. The coordinates for Channel 265C3 at Tomahawk are 45-30-01 North Latitude and 89-49-50 West Longitude.

The Audio Division, at the request of Charles Crawford, d/b/a Waynoka Broadcasting Company, allots Channel 231C2 at Waynoka, Oklahoma, as the community's first local aural transmission service. See 69 FR 46474, August 3, 2004. Channel 231C2 can be allotted to Waynoka in compliance with the Commission's minimum distance separation requirements with a site restriction of 28.8 kilometers (17.9 miles) north to avoid a short-spacing to the proposed allotment sites for Channel 233A, Cherokee, Oklahoma, and Channel 233A, Kiowa, Kansas. The coordinates for Channel 231C2 at Waynoka are 36-49-25 North Latitude and 98-59-50 West Longitude.

The Audio Division, at the request of Linda A. Davidson, allots Channel 224A at Wasco, California, as the community's first local commercial FM transmission service. See 69 FR 46474, August 3, 2004. Channel 224A can be allotted to Wasco in compliance with the Commission's minimum distance separation requirements at city reference coordinates. The coordinates for Channel 224A at Wasco are 35-35-37 North Latitude and 119-20-35 West Longitude.

The Audio Division, at the request of Charles Crawford, allots Channel 299A at Richland Springs, Texas, as the community's second local FM transmission. To accommodate the allotment, we also modify the reference coordinates for vacant Channel 299A at Hamilton, Texas. See 69 FR 46474, August 3, 2004. Channel 299A can be allotted to Richland Springs in compliance with the Commission's minimum distance separation requirements with a site restriction of 14.7 kilometers (9.1 miles) southwest to avoid a short-spacing to the proposed allotment site for Channel 296A, Brady, Texas. The coordinates for Channel 299A at Richland Springs are 31-09-42 North Latitude and 99-02-03 West Longitude. The modified reference coordinates for vacant Channel 299A at Hamilton are 31-49-57 North Latitude and 98-07-00 West Longitude. Since Richland Springs is located within 320 kilometers (199 miles) of the U.S.-Mexican border, concurrence of the Mexican government has been requested but has not been received. If a construction permit for Channel 299A at Richland Springs is granted prior to the Commission's receipt of formal concurrence in the allotment by the Mexican Government, the construction permit will include the following condition: “Use of this allotment is subject to suspension, modification, or termination without right to hearing, if found by the Commission to be necessary in order to conform to the 1992 USA-Mexico FM Broadcast Agreement or if specifically objected to by Mexico's Secretaria de Communicaciones Y Transportes.”

The Audio Division, at the request of Charles Crawford, allots Channel 300A at Hermitage, Arkansas, as the community's first local aural transmission service. See 69 FR 77975, December 29, 2004. Channel 300A can be allotted to Hermitage in compliance with the Commission's minimum distance separation requirements with a site restriction of 9.8 kilometers (6.1 miles) east to avoid a short-spacing to the construction permit site for Station KLAL(FM), Channel 299C1, Wrightsville, Arkansas. The coordinates for Channel 300A at Hermitage are 33-25-00 North Latitude and 92-04-30 West Longitude.

List of Subjects in 47 CFR Part 73

Radio, Radio broadcasting.

Part 73 of title 47 of the Code of Federal Regulations is amended as follows:

PART 73—RADIO BROADCAST SERVICES

1. The authority citation for part 73 continues to read as follows:

Authority: 47 U.S.C. 154, 303, 334, 336.

§ 73.202 [Amended]

2. Section 73.202(b), the Table of FM Allotments under Arkansas, is amended by adding Hermitage, Channel 300A.

3. Section 73.202(b), the Table of FM Allotments under California, is amended by adding Wasco, Channel 224A.

4. Section 73.202(b), the Table of FM Allotments under Oklahoma, is amended by adding Waynoka, Channel 231C2.

5. Section 73.202(b), the Table of FM Allotments under Texas, is amended by adding Channel 299A at Richland Springs, Texas.

6. Section 73.202(b), the Table of FM Allotments under Wisconsin, is amended by adding Channel 265C3 at Tomahawk.

Federal Communications Commission.
John A. Karousos,
Assistant Chief, Audio Division, Media Bureau.

[FR Doc. 06-3160 Filed 4-4-06; 8:45 am]

BILLING CODE 6712-01-P